DEPARTMENT OF THE INTERIOR

Bureau of Land Management

[ID-933-1430-ET; IDI-33168]

Notice of Proposed Withdrawal and Opportunity for Public Meeting; Idaho

AGENCY: Bureau of Land Management, Interior.

ACTION: Notice.

SUMMARY: The United States Department of the Interior, Bureau of Land Management proposes to withdraw 19.09 acres of public land in Cassia County for the protection of the Burley Administrative Site. This notice closes the land up to 2 years from settlement, sale, location or entry, under all of the general land laws, including the mining laws, but not from leasing under the mineral leasing laws, subject to valid existing rights.

DATES: Comments and requests for a meeting should be sent on or before February 23, 2000.

ADDRESSES: Comments and meeting requests should be sent to the Idaho State Director, BLM, Idaho State Office, 1387 S. Vinnell Way, Boise, ID 83709.

FOR FURTHER INFORMATION CONTACT: Jackie Simmons, BLM, Idaho State Office, 1387 S. Vinnell Way, Boise, ID 83709, 208-373-3867.

SUPPLEMENTARY INFORMATION: On December 1, 1999, a petition was approved allowing the Bureau of Land Management to file an application to withdraw the following described public land:

Boise Meridian

A parcel of land lying in the E½SW¼ of Section 32, Township 10 South, Range 23 East, Boise Meridian, the said parcel being more particularly described as follows: Beginning at a point 1500.4 feet north and 33.0 feet west of the quarter section corner common to Section 32, Township 10 South, Range 23 East and Section 5, Township 11 South, Range 23 East, Boise Meridian; said point being on the west right-of-way line of State Highway No. 27; thence N. 0°22′03″ E. along the highway right-of-way a distance of 515.12 feet; thence N. 89°27′57″ W. a distance 1184.19 feet to the centerline of the U.S.R.S. “H” Canal; thence S. 35°17′24″ W. along the canal centerline a distance of 80.64 feet; thence S. 21°20′41″ W. along the canal centerline a distance of 89.13 feet; thence S. 11°08′55″ W. along the canal centerline a distance of 221.23 feet to the west quarter section boundary of said section 23; thence S. 0°18′27″ E. along the quarter section boundary 501.81 feet; thence S.89°26′03″ E. a distance of 496.15 feet; thence N. 0°36′56″ E. a distance of 355.45 feet; thence S.89°21′29″ E. a distance of 800 feet to the point of beginning.

The area described aggregates 19.09 acres, more or less, in Cassia County.

The purpose of the proposed withdrawal is to protect the Burley Administrative Site.

For a period of 90 days from the date of publication of this notice, all persons who wish to submit comments, suggestions, or objections in connection with the proposed withdrawal may present their views in writing to the Idaho State Director of the Bureau of Land Management.

Notice is hereby given that an opportunity for a public meeting is afforded in connection with the proposed withdrawal. All interested persons who desire a public meeting for the purpose of being heard on the proposed withdrawal must submit a written request to the Idaho State Director within 90 days from the date of publication of this notice. Upon determination by the authorized officer that public meeting will be held, a notice of the time and place will be published in the Federal Register at least 30 days before the scheduled date of the meeting.

The application will be processed in accordance with the regulations set forth in 43 CFR 2300.

For a period 2 years from the date of publication of this notice in the Federal Register, the land will be segregated as specified above unless the application is denied or canceled or the withdrawal is approved prior to this date. The temporary uses which may be permitted during this segregative period are all uses other than settlement, sale, location, or entry, under the general land laws, including the mining laws.

Jimmie Buxton,
Branch Chief for Lands and Minerals.

[FR Doc. 00-1610 Filed 1-21-00; 8:45 am]

BILLING CODE 4310-GG-P